Title 3—

The President

Memorandum of June 8, 2009

Delegation of Certain Functions Under Section 201 of Public Law 110-429

Memorandum for the Secretary of State

By the authority vested in me as President by the Constitution and the laws of the United States of America, including section 301 of title 3, United States Code, I hereby delegate to you all functions conferred upon the President by subsections (a), (b), and (c) of section 201 of Public Law 110-429. You will exercise these functions in coordination with the Secretary of Defense.

You are authorized and directed to publish this memorandum in the Federal Register.

THE WHITE HOUSE,

Washington, June 8, 2009

[FR Doc. E9-14415

Filed 6-17-09; 8:45 am]

Billing code 4710-10-P